DEPARTMENT OF ENERGY

Federal Energy Regulatory Commission

Combined Notice of Filings #1

Take notice that the Commission received the following electric corporate filings:

Docket Numbers: EC16-77-001.

Applicants: BlackRock, Inc.

Description: Request for Reauthorization and Extension of Blanket Authorizations Under Section 203 of the Federal Power Act, et al. of BlackRock, Inc.

Filed Date: 2/19/19.

Accession Number: 20190219-5254.

Comments Due: 5 p.m. ET 3/12/19.

Take notice that the Commission received the following exempt wholesale generator filings:

Docket Numbers: EG19-59-000.

Applicants: Broadlands Wind Farm LLC.

Description: Notice of Self-Certification of Exempt Wholesale Generator Status of Broadlands Wind Farm LLC.

Filed Date: 2/21/19.

Accession Number: 20190221-5138.

Comments Due: 5 p.m. ET 3/14/19.

Docket Numbers: EG19-60-000.

Applicants: Hidalgo Wind Farm II LLC.

Description: Notice of Self-Certification of Exempt Wholesale Generator Status of Hidalgo Wind Farm II LLC.

Filed Date: 2/21/19.

Accession Number: 20190221-5139.

Comments Due: 5 p.m. ET 3/14/19.

Docket Numbers: EG19-61-000.

Applicants: Lexington Chenoa Wind Farm LLC.

Description: Notice of Self-Certification of Exempt Wholesale Generator Status of Lexington Chenoa Wind Farm LLC.

Filed Date: 2/21/19.

Accession Number: 20190221-5140.

Comments Due: 5 p.m. ET 3/14/19.

Take notice that the Commission received the following electric rate filings:

Docket Numbers: ER09-1256-005; ER12-2708-007.

Applicants: Potomac-Appalachian Transmission Highline, LLC, PATH West Virginia Transmission Company, LLC, PATH Allegheny Transmission Company, LLC.

Description: Compliance filing of Potomac-Appalachian Transmission Highline, LLC, et al.

Filed Date: 2/19/19.

Accession Number: 20190219-5245.

Comments Due: 5 p.m. ET 3/21/19.

Docket Numbers: ER17-1743-003.

Applicants: Doswell Limited Partnership.

Description: Compliance filing: Reactive Service Rate Schedule Compliance Filing to be effective 7/1/2017.

Filed Date: 2/21/19.

Accession Number: 20190221-5184.

Comments Due: 5 p.m. ET 3/14/19.

Docket Numbers: ER19-952-001.

Applicants: Alabama Power Company.

Description: Tariff Amendment: Raven Solar Amendment to Amendment Filing to be effective 1/1/2019.

Filed Date: 2/21/19.

Accession Number: 20190221-5002.

Comments Due: 5 p.m. ET 3/14/19.

Docket Numbers: ER19-987-000.

Applicants: Crystal Lake Wind Energy I, LLC.

Description: Supplement to February 5, 2019 Crystal Lake Wind Energy I, LLC tariff filing.

Filed Date: 2/15/19.

Accession Number: 20190215-5182.

Comments Due: 5 p.m. ET 3/8/19.

Docket Numbers: ER19-1080-000.

Applicants: California Independent System Operator Corporation.

Description: § 205(d) Rate Filing: 2019-02-20 EIM Implementation Agreement with NorthWestern to be effective 4/22/2019.

Filed Date: 2/21/19.

Accession Number: 20190221-5003.

Comments Due: 5 p.m. ET 3/14/19.

Docket Numbers: ER19-1081-000.

Applicants: Southern California Edison Company.

Description: § 205(d) Rate Filing: UFA Sunshine Valley Solar, SCE CAISO, SA No. 230 & Cancel Letter Agmt SA No. 191 to be effective 2/21/2019.

Filed Date: 2/21/19.

Accession Number: 20190221-5004.

Comments Due: 5 p.m. ET 3/14/19.

Docket Numbers: ER19-1082-000.

Applicants: NorthWestern Corporation.

Description: § 205(d) Rate Filing: SA 299 7th Rev—NITSA with REC Advanced Silicon Materials, LLC to be effective 4/1/2019.

Filed Date: 2/21/19.

Accession Number: 20190221-5005.

Comments Due: 5 p.m. ET 3/14/19.

Docket Numbers: ER19-1083-000.

Applicants: CPV Shore, LLC.

Description: Request for Waiver of CPV Shore, LLC.

Filed Date: 2/21/19.

Accession Number: 20190221-5119.

Comments Due: 5 p.m. ET 3/14/19.

Docket Numbers: ER19-1084-000.

Applicants: Midcontinent Independent System Operator, Inc.

Description: § 205(d) Rate Filing: 2019-02-21_SA 3248 OTP NSP Brooking Substation Relay MPFCA (J493 J510) to be effective 2/7/2019.

Filed Date: 2/21/19.

Accession Number: 20190221-5146.

Comments Due: 5 p.m. ET 3/14/19.

Docket Numbers: ER19-1085-000.

Applicants: Midcontinent Independent System Operator, Inc.

Description: § 205(d) Rate Filing: 2019-02-21_SA 3227 Certificate of Concurrence Duke—AEP IMTC IA to be effective 12/12/2018.

Filed Date: 2/21/19.

Accession Number: 20190221-5149.

Comments Due: 5 p.m. ET 3/14/19.

Docket Numbers: ER19-1086-000.

Applicants: Entergy Mississippi, LLC, Entergy Louisiana, LLC.

Description: § 205(d) Rate Filing: ELL-EML-Southern Transmission Interconnection Agreement to be effective 1/1/2019.

Filed Date: 2/21/19.

Accession Number: 20190221-5169.

Comments Due: 5 p.m. ET 3/14/19.

Docket Numbers: ER19-1087-000.

Applicants: PJM Interconnection, L.L.C.

Description: Tariff Cancellation: Notice of Cancellation of ISA/SA No. 4408, Queue No. Z1-038 to be effective 1/21/2019.

Filed Date: 2/21/19.

Accession Number: 20190221-5189.

Comments Due: 5 p.m. ET 3/14/19.

Docket Numbers: ER19-1088-000.

Applicants: Midcontinent Independent System Operator, Inc.

Description: § 205(d) Rate Filing: 2019-02-21_SA 3249 Poweshiek Reasnor 161 kV MPFCA (J498 J499 J500) to be effective 2/8/2019.

Filed Date: 2/21/19.

Accession Number: 20190221-5194.

Comments Due: 5 p.m. ET 3/14/19.

Docket Numbers: ER19-1089-000.

Applicants: Midcontinent Independent System Operator, Inc.

Description: § 205(d) Rate Filing: 2019-02-21_SA 3250 NSP-Deuel Harvest Wind Energy FCA (J526) to be effective 2/8/2019.

Filed Date: 2/21/19.

Accession Number: 20190221-5222.

Comments Due: 5 p.m. ET 3/14/19.

Docket Numbers: ER19-1090-000.

Applicants: Midcontinent Independent System Operator, Inc.

Description: § 205(d) Rate Filing: 2019-02-21_SA 3251 NSP-Louise Solar Project FCA (J523) to be effective 2/8/2019.

Filed Date: 2/21/19.

Accession Number: 20190221-5230.

Comments Due: 5 p.m. ET 3/14/19.

Docket Numbers: ER19-1091-000.

Applicants: NextEra Energy Transmission MidAtlantic, LLC.

Description: § 205(d) Rate Filing: Notice of Succession to be effective 1/22/2019.

Filed Date: 2/21/19.

Accession Number: 20190221-5238.

Comments Due: 5 p.m. ET 3/14/19.

Docket Numbers: ER19-1092-000.

Applicants: Antelope DSR 3, LLC.

Description: Baseline eTariff Filing: Master Interconnection Services Agreement to be effective 2/22/2019.

Filed Date: 2/21/19.

Accession Number: 20190221-5244.

Comments Due: 5 p.m. ET 3/14/19.

Docket Numbers: ER19-1093-000.

Applicants: San Pablo Raceway, LLC.

Description: Baseline eTariff Filing: Master Interconnection Services Agreement to be effective 2/22/2019.

Filed Date: 2/21/19.

Accession Number: 20190221-5250.

Comments Due: 5 p.m. ET 3/14/19.

Docket Numbers: ER19-1094-000.

Applicants: Alabama Power Company.

Description: § 205(d) Rate Filing: Entergy Interconnection Agreement Filing to be effective 1/1/2019.

Filed Date: 2/21/19.

Accession Number: 20190221-5253.

Comments Due: 5 p.m. ET 3/14/19.

Docket Numbers: ER19-1095-000.

Applicants: Georgia Power Company.

Description: § 205(d) Rate Filing: Entergy Interconnection Agreement Filing to be effective 1/1/2019.

Filed Date: 2/21/19.

Accession Number: 20190221-5255.

Comments Due: 5 p.m. ET 3/14/19.

Docket Numbers: ER19-1096-000.

Applicants: Mississippi Power Company.

Description: § 205(d) Rate Filing: Entergy Interconnection Agreement Filing to be effective 1/1/2019.

Filed Date: 2/21/19.

Accession Number: 20190221-5256.

Comments Due: 5 p.m. ET 3/14/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2019.
Nathaniel J. Davis, Sr.,
Deputy Secretary.

[FR Doc. 2019-03401 Filed 2-26-19; 8:45 am]

BILLING CODE 6717-01-P